DEPARTMENT OF TRANSPORTATION

Federal Aviation Administration

RTCA Special Committee 201: Aeronautical Operational Control (AOC)

AGENCY: Federal Aviation Administration (FAA), DOT.

ACTION: Notice of RTCA Special Committee 201 meeting.

SUMMARY: The FAA is issuing this notice to advise the public of a meeting of RTCA Special Committee 201: Aeronautical Operational Control.

DATES: The meeting will be held on September 19, 2002 from 9 a.m. to 5 p.m.

ADDRESSES: The meeting will be held at NBAA, 1200 Eighteenth Street, NW., Suite 400, Washington, DC 20036-2598.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 201 meeting. SC-201, Aeronautical Operational Control (AOC), Message Hazard Mitigation (AMHM), was established by the RTCA Program Management Committee on August 27, 2002. SC-201 will produce two documents that describe a number of acceptable procedural mitigations for those Aircraft Communications Addressing and Reporting System (ACARS) messages deemed to pose a hazard if corrupted. The documents are scheduled for completion on or before April 2004. The agenda will include:

• September 19:

• Opening Session (Welcome, Introductory and Administrative Remarks, Review Federal Advisory Committee Act and RTCA Procedures, Review Agenda, Background, Review Terms of Reference)

• Existing AOC messages under consideration

• Action timeline

• Organize Working Groups as appropriate

• Develop detailed schedule(s)

• Develop document outline(s)

• Assign drafting tasks, identify existing text

• Closing Session (Other Business, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 29, 2002.
Janice L. Peters,
FAA Special Assistant, RTCA Advisory Committee.

[FR Doc. 02-22624 Filed 9-4-02; 8:45 am]

BILLING CODE 4910-13-M